FEDERAL COMMUNICATIONS COMMISSION

47 CFR Part 73

[DA 05-1143, Docket No. 04-362, RM-11066]

Radio Broadcasting Services; Olustee, OK

AGENCY: Federal Communications Commission.

ACTION: Proposed rule, dismissal.

SUMMARY: This document dismisses a petition for rule making filed by Charles Crawford to allot Channel 252A at Olustee, Oklahoma for failure to state a continuing interest in the requested allotment. See 69 FR 57898, published September 28, 2004. This document therefore terminates the proceeding.

ADDRESSES: Federal Communications Commission, Washington, DC 20554.

FOR FURTHER INFORMATION CONTACT: Helen McLean, Media Bureau (202) 418-2738.

SUPPLEMENTARY INFORMATION: This is a synopsis of the Commission's Report and Order, MB Docket No. 04-362, adopted April 25, 2005 and released April 27, 2005. The full text of this Commission decision is available for inspection and copying during normal business hours in the FCC Reference Information Center (Room CY-A257), 445 12th Street, SW., Washington, DC. This document may also be purchased from the Commission's duplicating contractors, Best Copy and Printing, Inc., 445 12th Street, SW., Room CY-B402, Washington, DC 20554, telephone 1-800-378-3160 or http://www.BCPIWEB.com.

This document is not subject to the Congressional Review Act. (The Commission, is, therefore, not required to submit a copy of this Report and Order to the Government Accountability Office, pursuant to the Congressional Review Act, see 5 U.S.C. 801(a)(1)(A), because the proposed rule was dismissed.)

Federal Communications Commission.
John A. Karousos,
Assistant Chief, Audio Division, Media Bureau.

[FR Doc. 05-9295 Filed 5-10-05; 8:45 am]

BILLING CODE 6712-01-P